DEPARTMENT OF ENERGY

Federal Energy Regulatory Commission

[Docket No. AD24-3-000]

Review of Cost Submittals by Other Federal Agencies for Administering Part I of the Federal Power Act; Notice of Technical Conference

In an order issued on October 8, 2004, the Commission set forth a guideline for Other Federal Agencies (OFAs) to submit their costs related to Administering Part I of the Federal Power Act. Order On Rehearing Consolidating Administrative Annual Charges Bill Appeals And Modifying Annual Charges Billing Procedures, 109 FERC ¶ 61,040 (2004) (October 8 Order). The Commission required OFAs to submit their costs using the OFA Cost Submission Form. The October 8 Order also announced that a technical conference would be held for the purpose of reviewing the submitted cost forms and detailed supporting documentation.

The Commission will hold a technical conference, via conference call, at the time identified below. The technical conference will address the accepted costs submitted by the OFAs. The purpose of the conference will be for OFAs and licensees to discuss costs reported in the forms and any other supporting documentation or analyses.

The technical conference will also be transcribed. Those interested in obtaining a copy of the transcript immediately for a fee should contact the Ace-Federal Reporters, Inc., at 202-347-3700, or 1-800-336-6646. Two weeks after the post-forum meeting, the transcript will be available for free on the Commission's e-library system. Anyone without access to the Commission's website or who has questions about the technical conference should contact Raven A. Rodriguez at (202) 502-6276 or via email at annualcharges@ferc.gov.

FERC conferences are accessible under section 508 of the Rehabilitation Act of 1973. For accessibility accommodations please send an email to accessibility@ferc.gov or call toll free (866) 208-3372 (voice), (202) 208-8659 (TTY), or send a FAX to 202-208-2106 with the required accommodations.

The Technical Conference call will be held on Thursday, March 21, 2024, at 2 p.m.-3:30 p.m. (EST).

Technical Conference Call

Microsoft Teams Meeting

Join on your computer, mobile app or room device.

Click here to join the meeting, Meeting ID: 273 155 835 906, Passcode: pS5urB, Download Teams | Join on the web, Or call in (audio only), +1 202-984-3352, 783964930# United States, Washington, DC, Phone Conference ID: 783 964 930#.

Dated: March 8, 2024.
Debbie-Anne A. Reese,
Acting Secretary.

[FR Doc. 2024-05418 Filed 3-13-24; 8:45 am]

BILLING CODE 6717-01-P